DEPARTMENT OF DEFENSE

Department of the Army, Corps of Engineers

Announcement of Army Corps of Engineers Regional Listening Sessions

AGENCY: Corps of Engineers, DoD.

ACTION: Notice correction.

SUMMARY: In a previous Federal Register notice (65 FR 34453), Tuesday, May 30, 2000, an incorrect phone number was inadvertently provided on page 34454, column 1, line 12. The correct phone number for local calls in Northern Virginia area is (703) 428-8535.

FOR FURTHER INFORMATION CONTACT: Mr. Mark Gmitro, Program Manager, phone toll free (877) 447-6342 or if you're in the Northern Virginia area, please refer to the correct phone number as listed above.

SUPPLEMENTARY INFORMATION: None.

John A. Hall,
Alternate Army Federal Register Liaison Officer.

[FR Doc. 00-14675 Filed 6-8-00; 8:45 am]

BILLING CODE 3710-92-M